DEPARTMENT OF COMMERCE

National Institute of Standards and Technology

[Docket Number: 221004-0210]

Manufacturing USA Semiconductor Institutes; Extension of Comment Period

AGENCY: National Institute of Standards and Technology (NIST), Commerce.

ACTION: Notice; extension of comment period.

SUMMARY: The National Institute of Standards and Technology (NIST) is extending the period for submitting comments relating to potential Manufacturing USA semiconductor institutes until December 12, 2022. In a Request for Information (RFI) that published in the Federal Register on October 13, 2022, NIST requested information to inform the design of, and requirements for, potential Manufacturing USA institutes to strengthen the semiconductor and microelectronics innovation ecosystem, which could include design, fabrication, advanced test, assembly, and packaging capability. Responses to the RFI will inform NIST's development of funding opportunities for federal assistance to establish Manufacturing USA semiconductor institutes.

DATES: Comments must be received by 11:59 p.m. Eastern time on December 12, 2022. Comments received after November 28, 2022 and before publication of this notice are deemed to be timely. Submissions received after December 12, 2022 may not be considered. Those who have already submitted comments need not resubmit.

ADDRESSES: Comments may be submitted by either of the following methods:

• Electronic submission: Submit electronic public comments via the Federal eRulemaking Portal.

1. Go to www.regulations.gov and enter NIST-2022-0002 in the search field,

2. Click the “Comment Now!” icon, complete the required fields, and

3. Enter or attach your comments.

• Email: Comments in electronic form may also be sent to MfgRFI@nist.gov in any of the following formats: HTML; ASCII; Word; RTF; or PDF.

Please submit comments only and include your name, organization's name (if any), and cite “Manufacturing USA semiconductor institutes” in all correspondence. Comments containing references, studies, research, and other empirical data that are not widely published should include copies of the referenced materials.

All comments responding to this document will be a matter of public record. Relevant comments will generally be available on the Federal eRulemaking Portal at http://www.Regulations.gov and on NIST's website at https://www.nist.gov/oam/manufacturing-usa-semiconductor-institute-request-information-rfi. NIST will not accept comments accompanied by a request that part or all of the material be treated confidentially because of its business proprietary nature or for any other reason. Therefore, do not submit confidential business information or otherwise sensitive, protected, or personal information, such as account numbers, Social Security numbers, or names of other individuals.

FOR FURTHER INFORMATION CONTACT: For questions about this RFI contact: Kelley Rogers in the Office of Advanced Manufacturing, National Institute of Standards and Technology, telephone number 301-219-8543 or email manufacturingusa@nist.gov. Please direct media inquiries to NIST's Office of Public Affairs at (301) 975-2762.

SUPPLEMENTARY INFORMATION: In an RFI that published in the Federal Register on October 13, 2022 (87 FR 62080), NIST requested information to inform the design of, and requirements for, potential Manufacturing USA institutes to strengthen the semiconductor and microelectronics innovation ecosystem, which could include design, fabrication, advanced test, assembly, and packaging capability. These Manufacturing USA institutes are envisioned in Title XCIX of the William M. (Mac) Thornberry National Defense Authorization Act for Fiscal Year 2021 (Creating Helpful Incentives to Produce Semiconductors (CHIPS) for America) to support efforts in research and development as well as education and workforce development, and that Act also provides for complementary initiatives including the National Semiconductor Technology Center, the National Advanced Packaging Manufacturing Program, and the NIST laboratories program supporting measurement science and standards. Responses to the RFI will inform NIST's development of funding opportunities for federal assistance to establish Manufacturing USA semiconductor institutes. NIST is extending the comment period announced in the October 13, 2022 RFI from November 28, 2022 to December 12, 2022 in response to stakeholder requests for more time to respond to this important issue. NIST held three informational webinars explaining how the public could submit comments to the RFI, on October 20, November 2 and November 16, 2022. A link to a recording of the October 20, 2022 webinar as well as answers to Frequently Asked Questions can be found at https://www.nist.gov/oam/manufacturing-usa-semiconductor-institute-request-information-rfi.

Alicia Chambers,
NIST Executive Secretariat.

[FR Doc. 2022-26147 Filed 11-30-22; 8:45 am]

BILLING CODE 3510-13-P